PATENT AND TRADEMARK OFFICE

Submission for OMB Review; Comment Request, Pro Bono Survey; Correction

AGENCY: United States Patent and Trademark Office, Commerce.

ACTION: Notice; correction.

SUMMARY: The United States Patent and Trademark Office published a document in the Federal Register on August 22, 2016, concerning requests for comments on a Pro Bono Survey. The Pro Bono Survey is used by the Pro Bono Advisory Council (PBAC) and the USPTO to provide information to the USPTO regarding the current status and effectiveness of each region's pro bono hub. The document contained an incorrect cost burden based on the estimate of the hourly burden rate. The hourly rate estimate should use the Bureau of Labor Statistics hourly wage for lawyers instead of the American Intellectual Property Law Association hourly wage for intellectual property lawyers.

FOR FURTHER INFORMATION CONTACT: John Kirkpatrick, 571-270-3343 or email InformationCollection@uspto.gov. Include “Pro Bono Survey” in the subject line of the message.

Correction

In the Federal Register notice published on August 22, 2016 (81 FR 56612), in the second column, correct the “Cost Burden” caption to read:

Cost Burden: $10,480.00

Dated: September 13, 2016.
Marcie Lovett,
Records Management Division Director, USPTO Office of the Chief Information Officer.

[FR Doc. 2016-22683 Filed 9-20-16; 8:45 am]

BILLING CODE 3510-16-P